DEPARTMENT OF HOUSING AND URBAN DEVELOPMENT

[Docket No. FR-5765-N-03]

Notice of a Federal Advisory Committee; Manufactured Housing Consensus Committee; Technical Systems Subcommittee Teleconference

AGENCY: Office of the Assistant Secretary for Housing—Federal Housing Commissioner, Department of Housing and Urban Development (HUD).

ACTION: Notice of a Federal Advisory Meeting.

SUMMARY: This notice sets forth the schedule and proposed agenda for a teleconference meeting of the Manufactured Housing Consensus Committee (MHCC), Technical Systems Subcommittee. The teleconference meeting is open to the public. The agenda provides an opportunity for citizens to comment on the business before the consensus committee.

DATES: The teleconference meeting will be held on September 16, 2014, from 1:00 p.m. to 4:00 p.m. EST. The teleconference numbers are: U.S. toll-free: 1-866-622-8461, and Participant Code: 4325434.

FOR FURTHER INFORMATION CONTACT: Pamela Beck Danner, Administrator and Designated Federal Official (DFO), Office of Manufactured Housing Programs, Department of Housing and Urban Development, 451 Seventh Street SW., Room 9168, Washington, DC 20410, telephone 202-708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974 (42 U.S.C. 5401 et seq.) as amended by the Manufactured Housing Improvement Act of 2000 (Pub. L. 106-569). According to 42 U.S.C. 5403, as amended, the purposes of the MHCC are to:

• Provide periodic recommendations to the Secretary to adopt, revise, and interpret the Federal manufactured housing construction and safety standards;

• Provide periodic recommendations to the Secretary to adopt, revise, and interpret the procedural and enforcement regulations, including regulations specifying the permissible scope and conduct of monitoring; and

• Be organized and carry out its business in a manner that guarantees a fair opportunity for the expression and consideration of various positions and for public participation.

The MHCC is deemed an advisory committee not composed of Federal employees.

Public Comment: Citizens wishing to make oral comments on the business of the MHCC Technical Systems Subcommittee are encouraged to register by or before September 11, 2014, by contacting Home Innovation, 400 Prince Georges Blvd., Upper Marlboro, MD 20774; Attention: Kevin Kauffman, email to: MHCC@HomeInnovation.com; phone number 1-888-602-4663. Written comments are encouraged. The MHCC strives to accommodate citizen comments to the extent possible within the time constraints of the meeting agenda. Advance registration is strongly encouraged. The MHCC will also provide an opportunity for public comment on specific matters before the MHCC Technical Systems Subcommittee.

Tentative Agenda

September 16, 2014 From 1:00 p.m. to 4:00 p.m. EST

I. Call to Order and Roll Call

II. Opening Remarks: Subcommittee Chair and DFO

III. New Business—Review items assigned to Technical Systems Subcommittee by MHCC (The following are posted on HUD's MHCC Web site at: hud.gov/mhs)

• Log 85 Add new text to 3280.801

• Log 86 Add new text to 3280.806(a)(3)

• Supply Air Ducts Letter—Dated—May 1, 2014

• GAO Report Recommendations on Ventilation Systems and Air Quality, HUD's Transmittal Letter Dated—January 9, 2013

IV. Open Discussion

V. Adjourn: 4:00 p.m.

Dated: August 7, 2014.
Pamela Beck Danner,
Administrator, Office of Manufactured Housing Programs.

[FR Doc. 2014-19171 Filed 8-12-14; 8:45 am]

BILLING CODE 4210-67-P